DEPARTMENT OF COMMERCE

National Oceanic and Atmospheric Administration

50 CFR Part 648

[Docket No. 250224-0027]

RTID 0648-XE309

Fisheries of the Northeastern United States; Atlantic Deep-Sea Red Crab Fishery; 2025 Atlantic Deep-Sea Red Crab Specifications

AGENCY: National Marine Fisheries Service (NMFS), National Oceanic and Atmospheric Administration (NOAA), Commerce.

ACTION: Final rule; delay of effective date.

SUMMARY: In accordance with the memorandum of January 20, 2025, from President Donald J. Trump, entitled “Regulatory Freeze Pending Review,” published in the Federal Register on January 28, 2025, this action delays the effective date of the final rule NMFS published in the Federal Register on December 13, 2024, regarding the finalization of the 2025 Atlantic deep-sea red crab fishery specifications.

DATES: As of February 27, 2025, the effective date of the final rule implementing the specifications for the 2025 Atlantic deep-sea red crab fishery that published on December 13, 2024, at 89 FR 100919, is delayed until March 31, 2025.

FOR FURTHER INFORMATION CONTACT: Caroline Potter, Fishery Resource Management Specialist, (978) 281-9325.

SUPPLEMENTARY INFORMATION: The Atlantic deep-sea red crab fishery is managed by the New England Fishery Management Council (Council). The Atlantic Deep-Sea Red Crab Fishery Management Plan includes a specification process that requires the Council to recommend an acceptable biological catch (ABC), an annual catch limit (ACL), and total allowable landings (TAL) every 4 years. Collectively, these are the red crab specifications. Prior to the start of fishing year 2024, the Council recommended specifications for the 2024-2027 fishing years, which consisted of an ABC, an ACL, and a TAL of 2,000 metric tons (4.41 million pounds). On February 8, 2024, NMFS published a final rule implementing the Council-recommended specifications for the 2024 fishing year, effective through February 28, 2025, and projecting the fishery's specifications for 2025 through 2027 (89 FR 8557). At the end of each fishing year, we evaluate catch information and determine if the quota has been exceeded. If a quota is exceeded, the regulations at 50 CFR 648.262(b) require a pound-for-pound reduction in a subsequent fishing year. We reviewed available 2023 and 2024 fishery information against the projected 2025 specifications. There was no quota overages, nor was there any new biological information that would require altering the projected 2025 specifications published in 2024. Based on that information, on December 13, 2024, we published a final rule finalizing specifications for fishing year 2025, as projected in the 2024 specifications rule.

On January 20, 2025, the White House issued a memorandum instructing Federal agencies to temporarily postpone the effective date for 60 days after January 20, 2025, of any rules that had published in the Federal Register but not yet taken effect, for the purpose of “reviewing any questions of fact, law, and policy that the rules may raise” (90 FR 8249, January 28, 2025). In accordance with this memorandum, this action delays the effective date of the final rule NMFS published on December 13, 2024, at 89 FR 100919, until March 31, 2025.

Because of this delay, the final 2025 red crab specifications will not be in in place by the start of the fishing year on March 1, 2025. The regulations at 50 CFR 648.260(a)(6)(iv) specify that if the final specifications are not published in the Federal Register for the start of the fishing year, the previous year's specifications shall remain in effect until superseded by the final rule implementing the current year's specifications. As such, the 2024 red crab specifications of an ABC, an ACL, and a TAL of 2,000 metric tons will remain in effect.

Authority: 16 U.S.C. 1801 et seq.

Dated: February 24, 2025.
Samuel D. Rauch III,
Deputy Assistant Administrator for Regulatory Programs, National Marine Fisheries Service.

[FR Doc. 2025-03192 Filed 2-26-25; 8:45 am]

BILLING CODE 3510-22-P